DEPARTMENT OF DEFENSE

Department of the Navy

Available Buildings and Land at Military Installations Designated for Closure: Naval Air Station, Barbers Point, Oahu, HI

AGENCY: Department of the Navy, DoD.

ACTION: Notice.

SUMMARY: This Notice provides information regarding additional surplus property at the Naval Air Station, Barbers Point, Oahu, Hawaii.

FOR FURTHER INFORMATION CONTACT: Richard A. Engel, Head, BRAC Real Estate Section, Naval Facilities Engineering Command, 1322 Patterson Avenue SE., Suite 1000, Washington Navy Yard, DC 20374-5065, telephone (202) 685-9203, or J.M. Kilian, Director, Real Estate Department, Pacific Division, Naval Facilities Engineering Command, 258 Makalapa Drive, Suite 100, Pearl Harbor, HI 96860-3134, telephone (808) 472-1503. For more detailed information regarding particular properties identified in this notice (i.e. acreage, floor plan, sanitary facilities, exact street address, etc.), contact Mr. Roger Au, Base Operating Support, Pacific Division, Naval Facilities Engineering Command, 258 Makalapa Drive, Suite 100, Pearl Harbor, HI 96860-3134, telephone (808) 474-5946.

SUPPLEMENTARY INFORMATION: In 1993, the Naval Air Station, Barbers Point was designated for closure pursuant to the Defense Base Closure and Realignment Act of 1990, Public Law 101-510, as amended. Pursuant to this designation, in October 1995, approximately 2,146.9 acres of land and related facilities at this installation were determined surplus to the federal Government and available for use by (a) non-federal public agencies pursuant to various statutes which authorize conveyance of property for public projects, and (b) homeless provider groups pursuant to the Stewart B. McKinney Homeless Assistance Act (42 U.S.C. 11411), as amended. In June 1997, a second determination was made that 5.7 acres of land and related facilities at this installation were surplus to the Federal Government. On September 4, 2001, a third determination was made that 54.9 acres of land and related facilities at this installation are surplus to the federal Government.

Notice of Surplus Property

Pursuant to paragraph (7)(B) of section 2905(b) of the Defense Base Closure and Realignment Act of 1990, as amended by the Base Closure Community Redevelopment and Homeless Assistance Act of 1994, the following information regarding redevelopment authority and additional surplus property at the Naval Air Station, Barbers Point, is published in the Federal Register:

Redevelopment Authority

The local redevelopment authority for the Naval Air Station, Barbers Point, HI, for purposes of implementing the provisions of the Defense Base Closure and Realignment Act of 1990, as amended, is the Barbers Point Naval Air Station Redevelopment Commission. The Barbers Point Naval Air Station Redevelopment Commission was appointed by the Governor of the State of Hawaii to provide advice on the redevelopment of the closing Air Station. A cross section of community interests is represented on the Commission. The point of contact is Mr. William Bass, Executive Director, Barbers Point Naval Air Station Redevelopment Commission, PO Box 75268, Kapolei, HI 96707-0268, telephone (808) 692-7924 or 692-7925, facsimile (808) 692-7926.

Surplus Property Descriptions

The following is a listing of the additional land and facilities at the Naval Air Station, Barbers Point that were declared surplus to the federal Government on September 4, 2001.

Land

Two parcels of land consisting of approximately 54.9 acres of improved and unimproved fee simple land at the Naval Air Station, Barbers Point, on the island of Oahu, State of Hawaii.

Buildings

The following is a summary of the facilities located on the above described land.

—Storage Buildings. Comments: Two buildings of approximately 603 square feet.

—Generator Building. Comments: Approximately 328 square feet.

Expressions of Interest

Pursuant to paragraph 7(C) of section 2905(b) of the Defense Base Closure and Realignment Act of 1990, as amended by the Base Closure Community Redevelopment and Homeless Assistance Act of 1994, state and local Governments, representatives of the homeless, and other interested parties located in the vicinity of the Naval Air Station, Barbers Point, shall submit to the said local redevelopment authority (Barbers Point Naval Air Station Redevelopment Commission) a notice of interest, of such governments, representatives and parties in the above described additional surplus property, or any portion thereof. A notice of interest shall describe the need of the government, representative, or party concerned for the desired surplus property. Pursuant paragraphs 7(C) and (D) of said section 2905(b), the redevelopment authority shall assist interested parties in evaluating the surplus property for the intended use and publish in a newspaper of general circulation in Hawaii the date by which expressions of interest must be submitted. In accordance with section 2(e)(6) of said Base Closure Community Redevelopment and Homeless Assistance Act of 1994, expressions of interest will be solicited by the Barbers Point Naval Air Station Redevelopment Commission.

Dated: November 9, 2001.
T.J. Welsh,
Lieutenant Commander, Judge Advocate General's Corps, U.S. Navy, Federal Register Liaison Officer.

[FR Doc. 01-28937 Filed 11-19-01; 8:45 am]

BILLING CODE 3810-FF-P